DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 16, 2007.

Interested persons are invited to submit written comments regarding the subject matter of the investigations to the Director, Division of Trade Adjustment Assistance, at the address shown below, not later than July 16, 2007.

The petitions filed in this case are available for inspection at the Office of the Director, Division of Trade Adjustment Assistance, Employment and Training Administration, U.S. Department of Labor, Room C-5311, 200 Constitution Avenue, NW., Washington, DC 20210.

Signed at Washington, DC, this 26th day of June 2007.
Ralph DiBattista,
Director, Division of Trade Adjustment Assistance.

Appendix
[TAA petitions instituted between 6/18/07 and 6/22/07]
TA-W | Subject firm (petitioners) | Location | Date of institution | Date of petition
61699 | Prelude Foam Products Inc. (Comp) | Thomasville, NC | 06/18/07 | 06/17/07
61700 | Thomson Satellite Premises Systems (State) | Indianapolis, IN | 06/18/07 | 06/15/07
61701 | Hoosier Magnetics, Inc. (Comp) | Washington, IN | 06/18/07 | 06/11/07
61702 | Hewlett Packard (Wkrs) | Vancouver, WA | 06/19/07 | 06/08/07
61703 | Image Screens Inc. (State) | Paterson, NJ | 06/19/07 | 06/18/07
61704 | GTECH Corporation (Comp) | West Greenwich, RI | 06/19/07 | 06/15/07
61705 | RF Monolithics, Inc. (Comp) | Dallas, TX | 06/19/07 | 06/18/07
61706 | Wheeling/Pittsburgh Steel Corp. (Wkrs) | Wheeling, WV | 06/19/07 | 05/31/07
61707 | Dana—Torque Traction Manufacturing Inc. (Comp) | Cape Girardeau, MO | 06/19/07 | 06/18/07
61708 | Sun Chemical Corporation (State) | Winston-Salem, NC | 06/19/07 | 06/18/07
61709 | Sherman Pressure Casting Corp. (Comp) | North White Plains, NY | 06/20/07 | 06/19/07
61710 | Simkins Industries (State) | Ridgefield, NJ | 06/20/07 | 06/19/07
61711 | Amerock (Comp) | Rockford, IL | 06/20/07 | 06/18/07
61712 | GHN Neon, Inc. (Comp) | Garden Grove, CA | 06/20/07 | 06/14/07
61713 | YKK Snap Fasteners America, Inc. (Comp) | Centerville, TN | 06/20/07 | 06/08/07
61714 | Merrimac Industries (Comp) | West Caldwell, NJ | 06/20/07 | 06/07/07
61715 | Loxcreen Company, Inc. (State) | Woodburn, OR | 06/20/07 | 06/19/07
61716 | Clayton Marcus Company Inc. (Comp) | Hickory, NC | 06/21/07 | 06/20/07
61717 | Burner Systems International, Inc. (Comp) | Chattanooga, TN | 06/21/07 | 06/20/07
61718 | U.S. Optical Disc, Inc. (Comp) | Sanford, ME | 06/21/07 | 06/20/07
61719 | VCST Machined Products LLC (Comp) | Clinton Twp, MI | 06/21/07 | 06/12/07
61720 | Blue Heron Paper Company (State) | Pomona, CA | 06/21/07 | 05/31/07
61721 | Blount-Oregon Cutting Systems Group (Wkrs) | Portland, OR | 06/21/07 | 06/19/07
61722 | Seagate Technology (Wkrs) | Milpitas, CA | 06/21/07 | 06/07/07
61723 | Robin Industries, Inc. (State) | Fredericksburg, OH | 06/21/07 | 06/18/07
61724 | Nukote International (Comp) | Franklin, TN | 06/22/07 | 06/21/07
61725 | NCR (Wkrs) | Peachtree City, GA | 06/22/07 | 05/23/07
61726 | Autolign Manufacturing Group Inc. (State) | Milan, MI | 06/22/07 | 06/20/07
61727 | New River Industries, Inc. (Comp) | Radford, VA | 06/22/07 | 06/20/07
61728 | R & S Vinyl Products Group (IAMAW) | Clarion, PA | 06/22/07 | 06/21/07
61729 | North American Molded Products, Corp (Comp) | Hartville, OH | 06/22/07 | 06/21/07
61730 | Joy Mining Machinery (IAMAW) | Franklin, PA | 06/22/07 | 06/20/07
61731 | Biesemeyer Woodworking Tools (Comp) | Mesa, AZ | 06/22/07 | 06/19/07
61732 | Henry S. Wolkins Company (Comp) | Taunton, MA | 06/22/07 | 06/21/07
61733 | Tubular Textile Machinery, Inc. (Comp) | Lexington, NC | 06/22/07 | 06/21/07

[FR Doc. E7-12908 Filed 7-3-07; 8:45 am]

BILLING CODE 4510-FN-P